DEPARTMENT OF TRANSPORTATION

Federal Aviation Administration

Notice of Intent to Rule on Application (02-05-C-00-SLC) To Impose and Use a Passenger Facility Charge (PFC) at Salt Lake City International Airport Submitted by the Salt Lake City Department of Airports, Salt Lake City, Utah

AGENCY: Federal Aviation Administration (FAA), DOT.

ACTION: Notice of Intent to Rule on Application.

SUMMARY: The FAA proposes to rule and invites public comment on the application to impose and use PFC revenue at Salt Lake City International Airport under the provisions of 49 U.S.C. 40117 and part 158 of the Federal Aviation Regulations (14 CFR 158).

DATES: Comments must be received on or before September 5, 2002.

ADDRESSES: Comments on this application may be mailed or delivered in triplicate to the FAA at the following address: Mr. Alan E. Wiechmann, Manager; Denver Airports District Office, DEN-ADO, Federal Aviation Administration; 26805 East 68th Avenue, Suite 224, Denver, Colorado 80249.

In addition, one copy of any comments submitted to the FAA must be mailed or delivered to Mr. Timothy L. Campbell, Executive Director, at the following address; Salt Lake City Department of Airports, 776 N. Terminal Dr., TUI, Suite 250, Salt Lake City, Utah 84122.

Air Carriers and foreign air carriers may submit copies of written comments previously provided to Salt Lake City International Airport, under section 158.23 of part 158.

FOR FURTHER INFORMATION CONTACT: Mr. Christopher J. Schaffer, (303) 342-1258, 26805 East 68th Avenue, Suite 224, Denver, Colorado 80249. The application may be reviewed in person at this same location.

SUPPLEMENTARY INFORMATION: The FAA proposes to rule and invites public comment on the application 02-05-C-00-SLC to impose and use PFC revenue at Salt Lake City International Airport, under the provisions of 49 U.S.C. 40117 and part 158 of the Federal Aviation Regulations (14 CFR part 158).

On July 30, 2002, the FAA determined that the application to impose and use the revenue from a PFC submitted by the Salt Lake City Department of Airports, Salt Lake City, Utah, was substantially complete within the requirements of section 158.25 of part 158. The FAA will approve or disapprove the application, in whole or in part, not later than October 31, 2002.

The following is a brief overview of the application.

Level of the proposed PFC: $4.50.

Proposed charge effective date: February 1, 2003.

Proposed charge expiration date: October 1, 2003.

Total requested for use approval: $19,421,900.

Brief description of proposed projects:

Project 1: Airfield Improvement Projects

1.1 Concourse A Apron Expansion

1.2 Concourse A Apron Reconstruction Phase I

1.3 Concourse A Apron Reconstruction Phase II

1.4 Deicing Lagoon Upgrade

1.5 East Side Oil/Water Separator

1.6 East Apron Rehabilitation Phase II

1.7 East Apron Rehabilitation Phase III

1.8 SIDA Perimeter Patrol Road Phase II

1.9 SIDA Perimeter Patrol Road Phase III

1.10 Taxiway H. Reconstruction H10—H12

1.11 Taxiway H Reconstruction H7—H10

1.12 Surface Condition Analyzer Upgrade

1.13 Airport II Runway Overlay

1.14 Runway 16/34 Widening and Extension at Tooele Valley

Project 2: Terminal Improvement Projects

2.1 TU-2 Checked Baggage and Screening Checkpoint Queuing Modifications

2.2 EVIDS Installation

2.3 Concourse E SkyWest Interim Facility

Project 3: Miscellaneous Projects

3.1 Land Acquisition for Approach Protection and Noise Compatibility Phase I

3.2 Terminal Roadway Security Improvements Phase II

3.3 ALP/Environmental Update Phase I

Class or classes of air carriers, which the public agency has requested not be required to collect PFC's: All air taxi/commercial operators filing or required to file FAA Form 1800-31.

Any person may inspect the application in person at the FAA office listed above under FOR FURTHER INFORMATION CONTACT and at the FAA Regional Airports Office located at: Federal Aviation Administration, Northwest Mountain Region, Airports Division, ANM-600, 1601 Lind Avenue SW., Suite 315, Renton, WA 98055-4056.

In addition, any person may, upon request, inspect the application, notice and other documents germane to the application in person at Salt Lake City International Airport.

Issued in Renton, Washington on July 30, 2002.
David A. Field,
Manager, Planning, Programming and Capacity Branch, Northwest Mountain Region.

[FR Doc. 02-19853 Filed 8-5-02; 8:45 am]

BILLING CODE 4910-13-M